DEPARTMENT OF LABOR

Office of the Secretary

Agency Information Collection Activities; Submission for OMB Review; Comment Request; Evaluation of Employer Performance Measurement Approaches

ACTION: Notice of availability; request for comments.

SUMMARY: The Department of Labor (DOL) is submitting the Office of the Assistant Secretary for Policy, Chief Evaluation Office (CEO) sponsored information collection request (ICR) proposal titled, “Evaluation of Employer Performance Measurement Approaches,” to the Office of Management and Budget (OMB) for review and approval for use in accordance with the Paperwork Reduction Act (PRA) of 1995. Public comments on the ICR are invited.

DATES: The OMB will consider all written comments that agency receives on or before October 23, 2019.

ADDRESSES: A copy of this ICR with applicable supporting documentation; including a description of the likely respondents, proposed frequency of response, and estimated total burden may be obtained free of charge from the RegInfo.gov website at http://www.reginfo.gov/public/do/PRAViewICR?ref_nbr=201901-1290-001 (this link will only become active on the day following publication of this notice) or by contacting Frederick Licari by telephone at 202-693-8073, TTY 202-693-8064, (this is not a toll-free number) or by email at DOL_PRA_PUBLIC@dol.gov.

Submit comments about this request by mail to the Office of Information and Regulatory Affairs, Attn: OMB Desk Officer for DOL-CEO, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or by email at DOL_PRA_PUBLIC@dol.gov.

SUPPLEMENTARY INFORMATION: This ICR seeks PRA authority for the Evaluation of Employer Performance Measurement Approaches information collection. The U.S. Department of Labor (DOL) Chief Evaluation Office (CEO) is seeking Office of Management and Budget (OMB) approval to collect information from State and local public workforce system employees and partners, and to gather feedback from a group of U.S. employers, to inform the Analysis of Employer Performance Measurement Approaches study. The purpose of the study is to conduct a 36-month analysis of employer services measurement approaches and metrics, as well as their cross-State and cross-program applicability, with a goal of understanding and implementing a final indicator of performance. The study will explore and establish an understanding of employer services measurement and supplement the start-up of reporting by the States on the National Pilot measures. The Workforce Innovation and Opportunity Act authorizes this information collection.

This proposed information collection is subject to the PRA. A Federal agency generally cannot conduct or sponsor a collection of information, and the public is generally not required to respond to an information collection, unless the OMB, under the PRA, approves it and displays a currently valid OMB Control Number. In addition, notwithstanding any other provisions of law, no person shall generally be subject to penalty for failing to comply with a collection of information if the collection of information does not display a valid Control Number. See 5 CFR 1320.5(a) and 1320.6. For additional information, see the related notice published in the Federal Register on March 6, 2018 (83 FR 9548).

Interested parties are encouraged to send comments to the OMB, Office of Information and Regulatory Affairs at the address shown in the ADDRESSES section within thirty-(30) days of publication of this notice in the Federal Register. In order to help ensure appropriate consideration, comments should mention OMB ICR Reference Number 201901-1290-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-CEO.

Title of Collection: Evaluation of Employer Performance Measurement Approaches.

OMB ICR Reference Number: 201901-1290-001.

Affected Public: State, Local, and Tribal Governments; Individuals or Households; Private Sector—Businesses or other for-profits.

Total Estimated Number of Respondents: 603.

Total Estimated Number of Responses: 603.

Total Estimated Annual Time Burden: 204 hours.

Total Estimated Annual Other Costs Burden: $0.

Authority: 44 U.S.C. 3507(a)(1)(D).

Dated: September 16, 2019.
Frederick Licari,
Departmental Clearance Officer.

[FR Doc. 2019-20486 Filed 9-20-19; 8:45 am]

BILLING CODE 4510-HX-P